DEPARTMENT OF TRANSPORTATION

Federal Aviation Administration

14 CFR Part 39

[Docket No. FAA-2005-22321; Directorate Identifier 2005-NM-123-AD]

RIN 2120-AA64

Airworthiness Directives; Boeing Model 767-200 and -300 Series Airplanes

AGENCY: Federal Aviation Administration (FAA), Department of Transportation (DOT).

ACTION: Notice of proposed rulemaking (NPRM).

SUMMARY: The FAA proposes to adopt a new airworthiness directive (AD) for certain Boeing Model 767-200 and -300 series airplanes. This proposed AD would require replacing the placards on certain stowage bins with new placards, installing partial dividers in certain other stowage bins, and installing straps on stowage bins containing life rafts. For certain airplanes, this proposed AD would also require related concurrent actions. This proposed AD results from test data indicating that outboard overhead stowage bins are unable to withstand the 4.5g down-load standard intended to protect passengers during flight turbulence or a hard landing. We are proposing this AD to prevent the stowage bins from opening during flight turbulence or a hard landing, which could result in the contents of the stowage bins falling onto the passenger seats below and injuring passengers, or blocking the aisles, impeding the evacuation of passengers in an emergency.

DATES: We must receive comments on this proposed AD by October 24, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, P.O. Box 3707, Seattle, Washington 98124-2207 for the service information identified in this proposed AD.

FOR FURTHER INFORMATION CONTACT: Patrick Gillespie, Aerospace Engineer, Cabin Safety and Environmental Systems Branch, ANM-150S, FAA, Seattle Aircraft Certification Office, 1601 Lind Avenue, SW., Renton, Washington 98055-4056; telephone (425) 917-6429; fax (425) 917-6590.

SUPPLEMENTARY INFORMATION:

Comments Invited

We invite you to submit any relevant written data, views, or arguments regarding this proposed AD. Include the docket number “ FAA-2005-22321; Directorate Identifier 2005-NM-123-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received test data from the manufacturer indicating that the outboard overhead stowage bins are unable to withstand the 4.5g down-load standard intended to protect passengers during flight turbulence or a hard landing. The affected airplanes are certain Boeing Model 767-200 and -300 series airplanes. Under the 4.5g down-load condition, the threshold deflection of the stowage bins is too large and compromises the engagement of the doors. This condition, if not corrected, could result in the stowage bins opening during flight turbulence or a hard landing, which could result in the contents of the stowage bins falling onto the passenger seats below and injuring passengers, or blocking the aisles, impeding the evacuation of passengers in an emergency.

Relevant Service Information

We have reviewed Boeing Special Attention Service Bulletin 767-25-0336, Revision 2, dated August 11, 2005. The service bulletin describes procedures for replacing the placards on certain stowage bins with new placards, installing partial dividers in certain other stowage bins, and installing straps on stowage bins containing life rafts. Although Revision 2 states that the original issue of Service Bulletin 767-25-0336 is dated September 18, 2003, the date that appears on that document is May 15, 2003.

For certain airplanes, Service Bulletin 767-25-0336, Revision 2, specifies prior or concurrent accomplishment of Boeing Service Bulletin 767-25-0211, Revision 1, dated July 14, 1994. Service Bulletin 767-25-0211, Revision 1, describes procedures for replacing the door latches, strikes, and thresholds on the outboard overhead stowage compartments with new, improved latches, strikes, and thresholds.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously.

Clarification of Compliance Time for the Modifications

Boeing Special Attention Service Bulletin 767-25-0336, Revision 2, specifies that it is not necessary to modify all of the stowage bins at one time, provided the modification of an individual bin is completed prior to the airplane returning to service. We agree with this statement, but want to clarify that the modification of all affected stowage bins must be completed within 60 months after the effective date of the proposed AD. In developing an appropriate compliance time for this AD, we considered not only the manufacturer's recommendation, but the degree of urgency associated with addressing the subject unsafe condition, and the time necessary to perform the modifications. We have determined that a 60-month compliance time is an appropriate interval of time for affected airplanes to continue to operate without compromising safety. We have coordinated this compliance time with Boeing.

Costs of Compliance

There are about 366 airplanes of the affected design in the worldwide fleet. The following tables provide the estimated costs for U.S. operators to comply with this proposed AD.

Estimated Costs
Action | Work hours per kit | Average labor rate per hour | Cost of parts kit per airplane | Cost per airplane | Number of U.S.-registered airplanes | Fleet cost
Installation of placards, dividers, and straps | Between 46 and 74 | $65 | Between $26,700 and $44,196 | Between $29,690 and $49,006 | 138 | Between $4,097,220 and $6,762,828.

Estimated Costs of Concurrent Service Bulletin
Action | Work hours | Average labor rate per hour | Parts | Cost per airplane | Number of U.S.-registered airplanes | Fleet cost
Installation of new door latches, strikes, and thresholds | Between 24 and 31 | $65 | Between $7,000 and $70,000 | Between $8,560 and $72,015 | 105 | Between $898,800 and $7,561,575.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2005-22321; Directorate Identifier 2005-NM-123-AD.

Comments Due Date

(a) The FAA must receive comments on this AD action by October 24, 2005.

Affected ADs

(b) None.

Applicability

(c) This AD applies to certain Boeing Model 767-200 and -300 series airplanes, as identified in Boeing Special Attention Service Bulletin 767-25-0336, Revision 2, dated August 11, 2005; certificated in any category.

Unsafe Condition

(d) This AD results from test data indicating that outboard overhead stowage bins are unable to withstand the 4.5g down-load standard intended to protect passengers during flight turbulence or a hard landing. We are issuing this AD to prevent the stowage bins from opening during flight turbulence or a hard landing, which could result in the contents of the stowage bins falling onto the passenger seats below and injuring passengers, or blocking the aisles, impeding the evacuation of passengers in an emergency.

Compliance

(e) You are responsible for having the actions required by this AD performed within the compliance times specified, unless the actions have already been done.

Replacement of Placards and Installation of Partial Divider Panels and Life Raft Straps

(f) Within 60 months after the effective date of this AD: Replace the placards on certain stowage bins with new placards, install partial dividers in certain other stowage bins, and install straps on stowage bins containing life rafts, in accordance with the Accomplishment Instructions of Boeing Special Attention Service Bulletin 767-25-0336, Revision 2, dated August 11, 2005.

Actions Required To Be Accomplished Prior to or Concurrently With Paragraph (f) of This AD

(g) For Group 1 airplanes as identified in Boeing Special Attention Service Bulletin 767-25-0336, Revision 2, dated August 11, 2005: Prior to or concurrently with the accomplishment of paragraph (f) of this AD, replace the door latches, strikes, and thresholds on the outboard overhead stowage compartments with new latches, strikes, and thresholds. Do the replacement in accordance with the Accomplishment Instructions of Boeing Service Bulletin 767-25-0211, Revision 1, dated July 14, 1994.

Actions Accomplished Previously

(h) Accomplishment of the stowage bin modifications required by paragraph (f) of this AD before the effective date of this AD in accordance with Boeing Special Attention Service Bulletin 767-25-0336, dated May 15, 2003; or Revision 1, dated October 21, 2004; is considered acceptable for compliance with the corresponding modifications specified in this AD.

Parts Installation

(i) As of the effective date of this AD, no person may install on any airplane a stowage bin having a part number identified in Table 2 of Figure 1 of Boeing Special Attention Service Bulletin 767-25-0336, Revision 2, dated August 11, 2005, unless it has been modified by performing the applicable actions in paragraph (f) of this AD.

Alternative Methods of Compliance (AMOCs)

(j) The Manager, Seattle Aircraft Certification Office, FAA, has the authority to approve AMOCs for this AD, if requested in accordance with the procedures found in 14 CFR 39.19.

Issued in Renton, Washington, on August 24, 2005.
Ali Bahrami,
Manager, Transport Airplane Directorate, Aircraft Certification Service.

[FR Doc. 05-17670 Filed 9-6-05; 8:45 am]

BILLING CODE 4910-13-P